DEPARTMENT OF ENERGY

Federal Energy Regulatory Commission

[Project No. 13554-000]

Free Flow Power Ohio River 17, LLC; Notice of Preliminary Permit Application Accepted for Filing and Soliciting Comments, Motions To Intervene, and Competing Applications

August 14, 2009.

On July 14, 2009, Free Flow Power Ohio River 17, LLC filed an application for a preliminary permit, pursuant to section 4(f) of the Federal Power Act, proposing to study the feasibility of the Stouts Pass Hydrokinetic Energy Project, located on the Atchafalaya River, Saint Mary Parish, Louisiana. The sole purpose of a preliminary permit, if issued, is to grant the permit holder priority to file a license application during the permit term. A preliminary permit does not authorize the permit holder to perform any land disturbing activities or otherwise enter upon lands or waters owned by others without the owners' express permission.

The proposed project would consist of: (1) 720 turbine-generator units configured in a series of turbine arrays which in turn will be grouped to form turbine fields; (2) a combination of freestanding pilings, a floating barge-like platform, or existing shore infrastructure such as dock pilings onto which the turbine arrays will be moored; (3) submersible electric cables interconnecting the arrays within each turbine field and transmitting the turbine field's generation to a shore station; (4) several shore stations each consisting of less than 100 square meters which will transition the submersible cabling to the overhead transmission; (5) a 2.6-mile, 69 kV line interconnecting the shore stations and delivering power to the project substation; and (6) appurtenant facilities. The proposed project would generate about 63 gigawatt-hours annually.

Applicant contact: Ramya Swaminathan, Free Flow Power Corporation, 33 Commercial Street, Gloucester, Massachusetts 01930, phone: (978) 226-1531.

FERC Contact: Sergiu Serban, 202-502-6211.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13554) in the docket number field to access the document. For assistance, call toll-free 1-866-208-3372.

Kimberly D. Bose,
Secretary.

[FR Doc. E9-20233 Filed 8-21-09; 8:45 am]

BILLING CODE 6717-01-P